SMALL BUSINESS ADMINISTRATION

13 CFR Part 105

Standards of Conduct and Employee Restrictions and Responsibilities

CFR Correction

In Title 13 of the Code of Federal Regulations, revised as of January 1, 2015, on page 34, in § 105.401, in paragraph (b)(3), remove “Director of Human Resources” and add in its place “Chief Human Capital Officer”.

[FR Doc. 2015-31738 Filed 12-17-15; 8:45 am]

BILLING CODE 1505-01-D